FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 8, 2007.

A. Federal Reserve Bank of Atlanta (David Tatum, Vice President) 1000 Peachtree Street, N.E., Atlanta, Georgia 30309:

1. William R. Blanton, Alpharetta, Georgia; to acquire voting shares of NBOG Bancorporation, Inc., and thereby indirectly acquire voting shares of National Bank of Gainesville, both of Gainesville, Georgia.

B. Federal Reserve Bank of Kansas City (Donna J. Ward, Assistant Vice President) 925 Grand Avenue, Kansas City, Missouri 64198-0001:

1. Pella Fingersh Hillcrest Stock Trust and Trust Number 2 for Julie Fingersh, Pella Fingersh, Naples, Florida, trustee; Julie Fingersh Hillcrest Stock Trust, Julie Fingersh, San Rafael, California, trustee; Paul Fingersh Hillcrest Stock Trust, Paul Fingersh, Kansas City, Missouri, trustee; and Jack N. Fingersh Family Trust and Indenture of Trust of Jack Fingersh, dated 8-21-92, Jack Fingersh, Naples, Florida, trustee; and JPJ Investments, and FT Partners, LP, both in Kansas City, Missouri, and controlled by Jack Fingersh; to retain control of Hillcrest Bancshares, Inc., and thereby indirectly retain control of Hillcrest Bank, both in Overland Park, Kansas.

C. Federal Reserve Bank of Dallas (W. Arthur Tribble, Vice President) 2200 North Pearl Street, Dallas, Texas 75201-2272:

1. Harry Lynn Williams, Plano, Texas; to acquire additional voting shares of Snook Bancshares, Inc., Snook, Texas, and indirectly acquire additional voting shares of First Bank of Snook, Snook, Texas.

Board of Governors of the Federal Reserve System, February 16, 2007.
Robert deV. Frierson,
Deputy Secretary of the Board.

[FR Doc. E7-2970 Filed 2-21-07; 8:45 am]

BILLING CODE 6210-01-S